NATIONAL SCIENCE FOUNDATION

Proposal Review Panel for Materials Research; Notice of Meeting

In accordance with the Federal Advisory Committee Act (Pub. L. 92-463 as amended), the National Science Foundation announces the following meeting:

Name: Site visit review of the Cornell High Energy Synchrotron Source (CHESS) at Cornell University by the Division of Materials Research (DMR) #1203

Dates & Times:

April 28, 2013; 5:45 p.m.-8:30 p.m.

April 29, 2013; 7:45 a.m.-8:00 p.m.

April 30, 2013; 8:00 a.m.-4:00 p.m.

Place: Cornell University, Ithaca, NY

Type of Meeting: Part open

Contact Person: Dr. Thomas Rieker, Program Director, Materials Research Science and Engineering Centers Program, Division of Materials Research, Room 1065, National Science Foundation, 4201 Wilson Boulevard, Arlington, VA 22230, Telephone (703) 292-4914.

Purpose of Meeting: To provide advice and recommendations concerning operations and further support of the CHESS facility at Cornell.

Agenda:

Sunday, April 28, 2013

5:45 p.m.-7:15 p.m. Closed—Executive Session

7:15 p.m.-8:30 p.m. Open—Director's overview

Monday, April 29, 2013

8:00 a.m.-3:00 p.m. Open—Review of CHESS

3:00 p.m.-4:40 p.m. Closed—Executive session

4:40 p.m.-8:00 p.m. Open—Poster session and dinner

Tuesday, April 30, 2013

8:00 a.m.-9:45 a.m. Open—Presentations and Tour

9:45 a.m.-4:00 p.m. Closed—Executive session, Draft and Review Report

Reason for Closing: The work being reviewed may include information of a proprietary or confidential nature, including technical information; financial data, such as salaries and personal information concerning individuals associated with the MRSEC. These matters are exempt under 5 U.S.C. 552 b(c), (4) and (6) of the Government in the Sunshine Act.

Dated: March 26, 2013.
Susanne Bolton,
Committee Management Officer.

[FR Doc. 2013-07436 Filed 3-29-13; 8:45 am]

BILLING CODE 7555-01-P